DEPARTMENT OF THE INTERIOR

Fish and Wildlife Service

[FWS-R4-ES-2020-N016; FXES11140400000-201-FF04E00000]

Endangered Species; Recovery Permit Applications

AGENCY: Fish and Wildlife Service, Interior.

ACTION: Notice of receipt of permit applications; request for comments.

SUMMARY: We, the U.S. Fish and Wildlife Service, have received applications for permits to conduct activities intended to enhance the propagation or survival of endangered species under the Endangered Species Act of 1973, as amended. We invite the public and local, State, Tribal, and Federal agencies to comment on these applications. Before issuing any of the requested permits, we will take into consideration any information that we receive during the public comment period.

DATES: We must receive written data or comments on the applications by March 23, 2020.

ADDRESSES:

Reviewing Documents: Documents and other information submitted with the applications are available for review, subject to the requirements of the Privacy Act and Freedom of Information Act. Submit a request for a copy of such documents to Karen Marlowe (see FOR FURTHER INFORMATION CONTACT).

Submitting Comments: If you wish to comment, you may submit comments by one of the following methods:

• U.S. mail or hand-delivery: U.S. Fish and Wildlife Service Regional Office, Ecological Services, 1875 Century Boulevard, Atlanta, GA 30345 (Attn: Karen Marlowe, Permit Coordinator).

• Email: permitsR4ES@fws.gov. Please include your name and return address in your email message. If you do not receive a confirmation from the U.S. Fish and Wildlife Service that we have received your email message, contact us directly at the telephone number listed in FOR FURTHER INFORMATION CONTACT.

FOR FURTHER INFORMATION CONTACT: Karen Marlowe, Permit Coordinator, 404-679-7097 (telephone), karen_marlowe@fws.gov (email), or 404-679-7081 (fax). Individuals who are hearing or speech impaired may call the Federal Relay Service at 1-800-877-8339 for TTY assistance.

SUPPLEMENTARY INFORMATION: We invite review and comment from local, State, and Federal agencies and the public on applications we have received for permits to conduct certain activities with endangered and threatened species under section 10(a)(1)(A) of the Endangered Species Act of 1973, as amended (ESA; 16 U.S.C. 1531 et seq.), and our regulations in the Code of Federal Regulations (CFR) at 50 CFR part 17. With some exceptions, the ESA prohibits activities that constitute take of listed species unless a Federal permit is issued that allows such activities. The ESA's definition of “take” includes hunting, shooting, harming, wounding, or killing, and also such activities as pursuing, harassing, trapping, capturing, or collecting.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Before including your address, phone number, email address, or other personal identifying information in your comment, you should be aware that your entire comment—including your personal identifying information—may be made publicly available at any time. While you can ask us in your comment to withhold your personal identifying information from public review, we cannot guarantee that we will be able to do so.

Permit Application No. | Applicant | Species/numbers | Location | Activity | Type of take | Permit action
TE 56515D-0 | Leslie Meade, Olympia, WA | Virginia big-eared bat (Corynorhinus townsendii virginianus), gray bat (Myotis grisescens), northern long-eared bat (Myotis septentrionalis), and Indiana bat (Myotis sodalis) | Alabama, Florida, Georgia, Illinois, Indiana, Iowa, Kentucky, Michigan, Mississippi, Missouri, North Carolina, Ohio, South Carolina, and Tennessee | Presence/absence surveys | Capture with mist nets, handle, identify, band, radio-tag, and release | New.
TE 56588D-0 | Martin Melville, Marietta, GA | FISH: Laurel dace (Chrosomus saylori), blue shiner (Cyprinella (=Notropis) caerulea), bluemask darter (Etheostoma akatulo), Etowah darter (Etheostoma etowahae), Okaloosa darter (Etheostoma okaloosae), duskytail darter (Etheostoma percnurum), Cherokee darter (Etheostoma scotti), Cumberland darter (Etheostoma susanae), trispot darter (Etheostoma trisella), boulder darter (Etheostoma wapiti), smoky madtom (Noturus baileyi), chucky madtom (Noturus crypticus), pygmy madtom (Noturus stanauli), amber darter (Percina antesella), goldline darter (Percina aurolineata), Conasauga logperch (Percina jenkinsi), snail darter (Percina tanasi), blackside dace (Phoxinus cumberlandensis) MUSSELS: Cumberland elktoe (Alasmidonta atropurpurea), Appalachian elktoe (Alasmidonta raveneliana), fat threeridge (Amblema neislerii), spectaclecase (Cumberlandia monodonta), fanshell (Cyprogenia stegaria), dromedary pearlymussel (Dromus dromas), Chipola slabshell (Elliptio chipolaensis), Altamaha spinymussel (Elliptio spinosa), purple bankclimber (Elliptoideus sloatianus), Cumberlandian combshell (Epioblasma brevidens), oyster mussel (Epioblasma capsaeformis), yellow blossom (Epioblasma florentina florentina), tan riffleshell (Epioblasma florentina walkeri), upland combshell (Epioblasma metastriata), southern acornshell (Epioblasma othcaloogensis), southern combshell (Epioblasma penita), green blossom (Epioblasma torulosa gubernaculum), tubercled blossom (Epioblasma torulosa torulosa), snuffbox mussel (Epioblasma triquetra),turgid blossom (Epioblasma turgidula), tapered pigtoe (Fusconaia burkei), shiny pigtoe (Fusconaia cor), finerayed pigtoe (Fusconaia cuneolus), narrow pigtoe (Fusconaia escambia), round ebonyshell (Fusconaia rotulata), southern sandshell (Hamiota australis), cracking pearlymussel (Hemistena lata), pink mucket (Lampsilis abrupta), finelined pocketbook (Lampsilis altilis), orangenacre (Lampsilis perovalis), shinyrayed pocketbook (Lampsilis subangulata), Alabama lampmussel (Lampsilis virescens), Carolina heelsplitter (Lasmigona decorata), birdwing pearlymussel (Lemiox rimosus), Alabama moccasinshell (Medionidus acutissimus), Coosa moccasinshell (Medionidus parvulus), Gulf moccasinshell (Medionidus penicillatus), Ochlockonee moccasinshell (Medionidus simpsonianus), Suwannee moccasinshell (Medionidus walkeri), ring pink (Obovaria retusa), littlewing pearlymussel (Pegias fabula), white wartyback (Plethobasus cicatricosus), orangefoot pimpleback (Plethobasus cooperianus), sheepnose mussel (Plethobasus cyphyus), clubshell (Pleurobema clava), southern clubshell (Pleurobema decisum), southern pigtoe (Pleurobema georgianum), Cumberland pigtoe (Pleurobema gibberum), Georgia pigtoe (Pleurobema hanleyianum), ovate clubshell (Pleurobema perovatum), rough pigtoe (Pleurobema plenum), oval pigtoe (Pleurobema pyriforme), fuzzy pigtoe (Pleurobema strodeanum), slabside pearlymussel (Pleuronaia dolabelloides), fat pocketbook (Potamilus capax), triangular kidneyshell (Ptychobranchus greenii), fluted kidneyshell (Ptychobranchus subtentum), rabbitsfoot (Quadrula cylindrica cylindrica), rough rabbitsfoot (Quadrula cylindrica strigillata), winged mapleleaf (Quadrula fragosa), Cumberland monkeyface (Quadrula intermedia), Appalachian monkeyface (Quadrula sparsa), pale lilliput (Toxolasma cylindrellus), Choctaw bean (Villosa choctawensis), rayed bean (Villosa fabalis),purple bean (Villosa perpurpurea), Cumberland bean (Villosa trabalis), and CRAYFISH: Nashville crayfish (Orconectes shoupi) | Florida, Georgia, North Carolina, South Carolina, and Tennessee | Presence/absence surveys | Capture, handle, identify, and release | New.
TE 61239D-0 | Smithsonian National Zoo, Washington, DC | Red wolf (Canis rufus) | Washington, D.C | Genome banking | Sperm collection and cryopreservation | New.
TE 62026D-0 | Catherine Haase, Austin Peay State University, Clarksville, TN | Gray bat (Myotis grisescens), northern long-eared bat (Myotis septentrionalis), and Indiana bat (Myotis sodalis) | Fort Campbell Army Base, Kentucky and Tennessee | Assessment of bat community structure and habitat use | Capture with mist nets, band, radio-tag, and release | New.
TE 064740-2 | Fort Stewart Fish and Wildlife Branch, Fort Stewart, GA | Red-cockaded woodpecker (Picoides borealis), eastern indigo snake (Drymarchon corais couperi), frosted flatwoods salamander (Ambystoma cingulatum), and smooth coneflower (Echinacea laevigata) | Georgia | Population monitoring and management; surveys; and captive rearing trials | Red-cockaded woodpecker: capture, band, construct and monitor artificial nest cavities and restrictors, and translocate; eastern indigo snake: capture, measure, weigh, and PIT-tag; frosted flatwoods salamander: capture with dip-nets and minnow traps, drift fences and buckets and collect larvae for captive rearing trials; smooth coneflower: remove and reduce to possession (collect) seeds for sowing on-site | Renewal and amendment.
TE 66005D-0 | Joseph T. Johnson, Todd, NC | Gray bat (Myotis grisescens), Indiana bat (M. sodalis), northern long-eared bat (M. septentrionalis), Ozark big-eared bat (Corynorhinus (=Plecotus) townsendii ingens), and Virginia big-eared bat (Corynorhinus (=Plecotus) townsendii virginianus) | Alabama, Arkansas, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/absence surveys, habitat assessments, habitat use studies, population monitoring, and studies to evaluate the effectiveness of acoustic identification methods | Enter hibernacula or maternity roost caves, capture with mist-nets or harp traps, handle, collect hair, fungal lift tape, swab, wing-punch, band, radio-tag, light-tag, PIT-tag, and salvage | New.
TE 56746B-4 | Joseph Johnson, Ohio University, Athens, OH | Indiana bat (Myotis sodalis) and northern long-eared bat (M. septentrionalis) | Ohio | Migration study | Capture with harp-traps, band, and radio-tag | Amendment.
TE 59318D-0 | Marie Selby Botanical Gardens, Sarasota, FL | Harrisia (=Cereus) aboriginum (=gracilis) (aboriginal prickly-apple) | J.N. “Ding” Darling National Wildlife Refuge, Sanibel, FL | Genetic research and artificial propagation | Remove and reduce to possession (collect) spines, areoles, and seeds | New.
TE 65875D-0 | William Pruitt, Roswell, GA | FISH: blue shiner (Cyprinella (=Notropis) caerulea), bluemask darter (Etheostoma akatulo), relict darter (Etheostoma chienense), vermilion darter (Etheostoma chermocki), Etowah darter (Etheostoma etowahae), yellowcheek darter (Etheostoma moorei), watercress darter (Etheostoma nuchale), duskytail darter (Etheostoma percnurum), rush darter (Etheostoma phytophilum), Cherokee darter (Etheostoma scotti), Cumberland darter (Etheostoma susanae), trispot darter (Etheostoma trisella), boulder darter (Etheostoma wapiti), Cahaba shiner (Notropis cahabae), Cape Fear shiner (Notropis mekistocholas), smoky madtom (Noturus baileyi), pygmy madtom (Noturus stanauli), goldline darter (Percina aurolineata), Conasauga logperch (Percina jenkinsi), Roanoke logperch (Percina rex), snail darter (Percina tanasi), and blackside dace (Phoxinus cumberlandensis). MUSSELS: fat threeridge (Amblema neislerii), purple bankclimber (Elliptoideus sloatianus), shiny-rayed pocketbook (Lampsilis subangulata), Gulf moccasinshell (Medionidus penicillatus), and oval pigtoe (Pleurobema pyriforme) | Alabama, Georgia, Mississippi, North Carolina, Tennessee, and Virginia | Presence/absence surveys | Capture, handle, identify, and release | New.

Authority

We publish this notice under section 10(c) of the Endangered Species Act of 1973, as amended (16 U.S.C. 1531 et seq.).

Matthew Dekar,
Acting Assistant Regional Director, Ecological Services, South Atlantic, Gulf & Mississippi Basin Regions.

[FR Doc. 2020-03429 Filed 2-19-20; 8:45 am]

BILLING CODE 4333-15-P